FEDERAL RETIREMENT THRIFT INVESTMENT BOARD

Sunshine Act Meeting

TIME AND DATE: 1:00pm. (Eastern Time) July 28, 2014.

PLACE: Frostburg University, Lane University Center—Board Room 109, 101 Midlothian Rd., Frostburg, MD 21532.

STATUS: Parts will be open to the public and parts will be closed to the public.

MATTERS TO BE CONSIDERED:

Parts Open to the Public

1. Approval of the Minutes of the June 23, 2014 Board Member Meeting

2. Thrift Savings Plan Activity Reports

a. Monthly Participant Activity Report

b. Quarterly Investment Policy Report

c. Legislative Report

3. Quarterly Reports

a. Vendor Financials

b. Audit Status

c. Budget Review

4. Office of Participant Operations and Policy Report

5. Report on Participant Behavior and Demographics—Analysis of 2009-2013

6. Executive Director Succession Management Plan

Parts Closed to the Public

7. Semi Annual OGC Litigation Review

CONTACT PERSON FOR MORE INFORMATION: Kimberly Weaver, Director, Office of External Affairs, (202) 942-1640.

Dated: July 18, 2014.
Dharmesh Vashee,
Assistant General Counsel, Federal Retirement Thrift Investment Board.

[FR Doc. 2014-17307 Filed 7-18-14; 11:15 am]

BILLING CODE 6760-01-P